PACIFIC NORTHWEST ELECTRIC POWER AND CONSERVATION PLANNING COUNCIL

Columbia River Basin Fish and Wildlife Program

August 21, 2000.

AGENCY: Pacific Northwest Electric Power and Conservation Planning Council (Northwest Power Planning Council or Council).

ACTION: Proposed amendments to the Columbia River Basin Fish and Wildlife Program.

SUMMARY: Pursuant to the Pacific Northwest Electric Power Planning and Conservation Act (the Northwest Power Act, 16 U.S.C. 839, et seq.) the Council invites comments on proposed amendments to its Columbia River Basin Fish and Wildlife Program (program), Council document 2000-14.

Background

In January 2000, the Council formally requested recommendations for amendments to the program under the Northwest Power Act. The proposed amendments are based on the recommendations that were submitted to the Council by fish and wildlife agencies, Indian tribes and others earlier this year in response to this request. Copies of the recommendations were distributed to interested parties earlier in this process, and are available from the Council on request (Council document 2000-10).

The Council will accept written public comment on the proposed amendments (Council document 2000-14) until September 22, 2000, and will hold public hearings to take written and oral comments in Idaho, Montana, Oregon, and Washington on the following schedule:

August 30

Portland OR—5 p.m., Council central offices, 851 SW Sixth Avenue, Suite 1100, Portland, OR

September 5

Vancouver, WA—6 p.m., Water Resources Education Center, Bruce E. Hagensen Room, 4600 SE Columbia Way, Vancouver, WA 98668

September 6

Astoria, OR—5 p.m., Duncan Law Seafood Consumer Center (503-338-6523 (Eric)), 2021 Marine Drive, Astoria, OR 97103

September 12

Idaho Falls, ID—6 p.m., West Coast—Idaho Falls (formerly Cavanaughs), 475 River Parkway, Idaho Falls, ID

September 13

Boise, ID—6 p.m., Joe R. Williams Bldg., (Hall of Mirrors), 700 W. State Street, Boise, ID 83702

September 18

Lewiston, ID—6 p.m., Red Lion, 621 21st, Lewiston, ID 83501

September 18

Kalispell, MT—7 p.m., West Coast Hotels (formerly Cavanaughs), McDonald/Swift Current Rooms, Kalispell Center, 20 N. Main Street, Kalispell, MT

September 19

Spokane, WA—5 p.m., Ridpath Hotel, 515 West Sprague, Spokane, WA

September 21

Hermiston, OR—5 p.m., Convention/Community Center, Rotary/Altrusa Room, Hermiston, OR

The Council expects to make final decisions on proposed amendments, beginning on October 11, 2000. At the end of the process, the Council will make findings required by the Northwest Power Act regarding any recommendations the Council rejects. The Council wishes to emphasize that it may adopt or reject any of these proposed amendments after it has received public comments, and comment may be directed to any of them.

Request for Comments

You are invited to comment on proposed amendments by 5 p.m. on September 22, 2000. Please label comments “2000 Fish and Wildlife Program 2000-14” and submit them to Mark Walker, Director of Public Affairs at 851 S.W. 6th Avenue, Suite 1100, Portland, Oregon 97204 or submit them to the Council via e-mail at programcomments@nwppc.org. The Council may schedule additional public consultations if necessary on the proposed amendments between September 22, 2000, and October 2, 2000.

FOR FURTHER INFORMATION CONTACT: For a full copy of the proposed amendments (request Council document 2000-14) or for further information, please contact the Council's Public Affairs Division, 851 S.W. 6th Avenue; Suite 1100, Portland, Oregon 97204 or (503) 222-5161, toll free 1-800-452-5161, or our web site of www.nwppc.org. Copies of amendment recommendations previously submitted to the Council (Council document 2000-10) are also available on request.

Stephen L. Crow,
Executive Director.

[FR Doc. 00-22459 Filed 8-31-00; 8:45 am]

BILLING CODE 7905-01-M